DEPARTMENT OF TRANSPORTATION

Federal Transit Administration

Announcement of Competitively Selected Fiscal Year 2001 Projects for the Job Access and Reverse Commute Competitive Grant Program

AGENCY: Federal Transit Administration, DOT.

ACTION: Notice.

SUMMARY: The U.S. Department of Transportation (DOT), Federal Transit Administration (FTA), announces the selection of competitively submitted proposals for Fiscal Year (FY) 2001 funding under the Job Access and Reverse Commute Grants program funding, authorized under section 3037 of the Transportation Equity Act for the 21st Century (TEA-21) Pub. L. 105-178. The Notice also provides information on how to proceed with the submission of a final application. Projects were competitively selected from projects submitted to FTA in (FY) 2000. Funding limitations in (FY) 2000 prevented FTA from funding or fully funding a number of qualified projects in that fiscal year.

This announcement is available on the DOT's FTA website at [http://www.fta.dot.gov/wtw/].

DATES: All applications for selected projects must be completed and filed with the appropriate FTA Regional Offices by April 1, 2001. If there are extenuating circumstances that prevent filing an electronic application by that time, please contact the appropriate FTA regional administrator for a filing extension. Failure to file may mean that funding selection decisions may be rescinded. FTA regional offices will provide guidance on how to file electronic applications.

FOR FURTHER INFORMATION CONTACT: The appropriate FTA Regional Administrator for application-specific information and issues (Appendix A). For general program information, refer to the Job Access and Reverse Commute Competitive Grants Notice, 65 Fed. Reg. 13210 et seq., March 10, 2000. A TDD is available at 1-800-877-8339 (TDD/FIRS). The notice can also be accessed through FTA's web site, [www.fta.dot.gov/wtw].

Background

In (FY) 2001, the Congress provided $99,780,000 for the Job Access and Reverse Commute Grants program. Congress designated $75,240,000 of this funding for projects in specified states, localities and, in some cases, to specific organizations. These designations are listed in Appendix B.

FTA has decided that the remaining (FY) 2001 selections would be chosen from meritorious proposals submitted in (FY) 2000 that were only partially funded or not funded because of funding limitations in (FY) 2000. The (FY) 2000 selections were announced in the Federal Register on October 16, 2000 and may be found on the FTA website, [http://www.fta.dot.gov/wtw/].

FTA has made this decision because project proposals submitted in (FY) 2000 far exceeded FTA's funding resources available for major urbanized areas with populations greater than 200,000 and for small urban and rural areas with populations of less than 50,000. Additionally, FTA wishes to continue timely support of meritorious projects previously funded by FTA. Selecting proposals at this time rather than issuing a new (FY) 2001 solicitation will significantly speed project implementation. To afford a full opportunity to all interested parties to participate in the Job Access and Reverse Commute Grants program, FTA intends to issue a new solicitation for (FY) 2002 funding in the near future. This will permit FTA to announce proposal selections at the beginning of (FY) 2002 rather than at the end of the year as has occurred in the past. We believe this will improve program timing and make program announcements more predictable in the future.

SUPPLEMENTARY INFORMATION: The Job Access and Reverse Commute Grants program is intended to establish an area-wide regional planning approach to job access challenges. This is accomplished through a coordinated transportation/human services planning activity developed as part of or in conjunction with the established transportation planning process conducted by MPOS in metropolitan areas and under state guidance in rural and small urban areas. Projects derived from this process support the implementation of a variety of transportation services that may be needed to connect welfare recipients to jobs and related employment activities. All projects funded under the Job Access and Reverse Commute Grants program must be derived from this area-wide planning process.

The Job Access and Reverse Commute Grants program has two major goals: to provide transportation services in urban, suburban and rural areas to assist welfare recipients and low income individuals in gaining access to employment opportunities; and to increase collaboration among transportation providers, human service agencies, employers, metropolitan planning organizations (MPOs), states, and affected communities and individuals.

The following table lists the successful competitive applicants for fiscal year 2001, by state:

Fiscal Year 2001 Competitive Projects
State | Locality | Applicant (Sub-applicant) | FTA Funds
Alabama | Montgomery | City of Montgomery | $250,000
California | Oakland | AC Transit | 130,108
California | Napa | Napa County Transportation Planning Agency | 62,500
California | Sacramento | CALTRANS | 500,000
California | Sacramento | Sacramento County Public Works Agency | 96,395
California | San Diego | San Diego Association of Governments | 800,000
California | San Francisco Metro Area | Metropolitan Transportation Commission | 316,500
California | Ukiah | Mendocino Transit Authority | 79,368
California | Woodland | YOLOBUS | 137,440
Colorado | Breckenridge | Summit County (Summit Stage) | 75,000
Colorado | Denver | Regional Transportation District | 100,000
Connecticut | New Britain, Bristol, Plainville | Connecticut Department of Transportation (North Central Region) | 857,786
Connecticut | Bridgeport | Connecticut Department of Transportation (Southwest Region) | 309,623
Connecticut | Bridgeport, New Haven | Connecticut Department of Transportation (South Central Region) | 473,000
Connecticut | Groton, Mystic, Montville, New London, Norwich, Pawcatuck, Foxwoods | Connecticut Department of Transportation (Eastern Region) | 127,714
Delaware | Sussex County | Delaware Department of Transportation | 95,000
Delaware | Wilmington Metro Area | Delaware Department of Transportation | 432,500
Florida | Clearwater—Tampa Metro Area | Pinellas County MPO (Pinellas Suncoast Transit Authority, Pasco County) | 2,400,000
Florida | Jacksonville | Jacksonville Transportation Authority | 930,000
Georgia | Atlanta | Georgia Department of Transportation (Hall County: rural) | 150,000
Illinois | Chester | Interagency Transportation Consortium | 93,868
Illinois | Chicago | Chicago Area Transportation Study (Chicago Transit Authority) | 136,314
Illinois | Chicago | Chicago Area Transportation Study (Metra) | 92,934
Illinois | Chicago Metro Area | Chicago Area Transportation Study (PACE) | 362,445
Illinois | Karnak | Massac County (Shawnee Development Council) | 53,600
Illinois | Rock Island | Rock Island County Metropolitan Mass Transit | 316,368
Indiana | South Bend | South Bend Public Transportation Group | 245,919
Kentucky | Louisville | Transit Authority of River City | 1,097,400
Massachusetts | Boston | Massachusetts Bay Transportation Authority | 601,900
Massachusetts | Haverhill | Merrimack Valley Regional Transit Authority | 500,000
Michigan | Barry | Michigan Department of Transportation (Barry County) | 44,000
Michigan | Benzie County—Leelanau | Michigan Department of Transportation (Benzie County—Leelanau) | 45,000
Michigan | Berrien, Cass, Van Buren | Michigan Department of Transportation (Berrien—Cass—Van Buren) | 150,000
Michigan | Charlevoix, Emmet | Michigan Department of Transportation (Charlevoix—Emmet) | 17,500
Michigan | Detroit | Southeastern Michigan Council of Governments (City of Detroit Department of Transportation) | 200,000
Michigan | Eaton | Michigan Department of Transportation (Eaton County) | 58,939
Michigan | Ionia County | Michigan DOT (Ionia County) | 81,570
Michigan | Lake Mason, Oceana Counties | Michigan Department of Transportation (Lake—Mason—Oceana Counties) | 150,000
Michigan | Lansing | Capital Area Transportation Authority | 26,000
Michigan | Midland | Michigan Department of Transportation (Midland County) | 71,281
Nebraska | Buffalo County | Nebraska Department of Roads (Buffalo County Community) | 131,925
New York | New York City | MTA/Human Resource Administration | 477,568
New York | New York City | Non-Profit Assistance Corp. | 929,040
New York | New York City | Phipps Community Development Corp | 760,284
New York | New York City | Project Renewal | 400,577
New York | New York City Metro—Westchester | Westchester County | 55,000
New York | New York City Metro—Westchester | Westchester County Department of Transportation (Westchester Community Opportunity Program) | 175,320
North Dakota | Fort Yates | Sitting Bull College | 79,208
Ohio | Akron | Metro Regional Transit Authority | 33,378
Ohio | Lorain | Lorain County Transit | 300,000
Ohio | Muskingum | Ohio Department of Transportation (Muskingum Transit Authority) | 142,582
Ohio | Pike County | Ohio Department of Transportation (Pike County Community Action Committee) | 36,921
Ohio | Youngstown | Western Reserve Transit Authority | 50,000
Oregon | Baker City | Oregon Department of Transportation (Community Connection of Baker County) | 28,600
Oregon | LaGrande | Oregon Department of Transportation (Community Connection of Union County) | 16,500
Oregon | Redmond | Oregon Department of Transportation (Central Oregon Intergovernmental Council) | 110,000
Pennsylvania | Indiana | Indiana County Transit Authority | 51,580
Tennessee | Knoxville | Knoxville-Knox County Community Action Committee | 200,000
Tennessee | Memphis | Memphis Area Transit Authority | 275,000
Texas | Austin, Colorado Counties | Texas Department of Transportation (Colorado Valley) | 150,000
Texas | Dallas-Fort Worth | North Central Texas Council of Governments | 1,500,000
Texas | El Paso | City of El Paso | 720,000
Texas | Fort Worth | Fort Worth Transit | 240,000
Texas | Guadalupe, Comal Counties | Texas Department of Transportation (Alamo Area Council of Governments) | 150,000
Texas | Hunt, Rockwell, Dallas Counties | Texas Department of Transportation (The Connection) | 200,000
Texas | Robstown, Petronila, Banquete, Driscoll | Texas Department of Transportation (Institute for Urban Development) | 60,000
Virginia | Richmond | Greater Richmond Transit Company | 1,000,000
Washington | Seattle | Puget Sound Regional Council | 2,780,000

Pre-Award Authority

FTA is providing pre-award spending authority for this program which permits successful applicants to incur costs on eligible projects without prejudice to possible Federal participation in the cost of the project or projects. However, in exercising pre-award authority, successful applicants must comply with all Federal requirements. Failure to do so will render a project ineligible for FTA financial assistance. Successful applicants must consult the appropriate regional office regarding the eligibility of the project for future FTA funds or the applicability of the conditions and Federal requirements. Pre-award spending authority is provided to projects selected and announced by this notice effective October 23, 2000. Congressionally designated projects are likewise granted pre-award authority effective October 23, 2000. The Department of Transportation (DOT) and Related Agencies Appropriations Act for Fiscal Year 2001 (FY 2001 DOT Appropriations Act) (Pub. L. 106-346) was signed into law by President Clinton on October 23, 2000.

Certifications and Assurances Requirements

In accordance with 49 U.S.C. 5323(n), certifications and assurances have been compiled for the various FTA programs. Before FTA may award a Federal grant, each successful applicant must provide to FTA all certifications and assurances required by Federal laws and regulations applicable to itself and its project. A state providing certifications and assurances on behalf of its prospective subrecipients should obtain sufficient documentation from those subrecipients needed to provide informed certifications and assurances. A successful applicant for funds under the Job Access and Reverse Commute Grants program will be required to comply with the requirements of the FTA's Annual Certifications and Assurances. It is important that each successful applicant be familiar with all certifications and assurances as they are a prerequisite for receiving FTA financial assistance. All successful applicants are advised to read the entire text of those Certifications and Assurances to be confident of their responsibilities and commitments.

The signature page accompanying the Certifications and Assurances contains the current fiscal year's certifications and, when properly attested to and submitted to FTA, assures FTA that the applicant intends to comply with the requirements for the specific program involved. FTA will not award any federal assistance until the successful applicant provides assurance of compliance by selecting Category I on the signature page and all other categories applicable to itself and its project.

FTA's (FY) 2001 Certifications and Assurances Notice is expected to be published in the Federal Register on or about January 18, 2001. They are also available on the World Wide Web at [http://www.fta.dot.gov/library/legal/ca.htm]. Copies may also be obtained from FTA regional offices. Applicants that need further assistance should contact the appropriate FTA regional office (see Appendix A) for further information.

U.S. Department of Labor Certification

As a condition of release of Federal funds for this program, Federal Transit law requires that applicants must comply with 49 U.S.C. 5333(b), administered under the Department of Labor's (DOL) Mass Transit Employee Protection Program. These employee protections include the preservation of rights, privileges, and benefits under existing collective bargaining agreements, the continuation of collective bargaining rights, the protection of individual employees against a worsening of their positions related to employment, assurances of employment to employees of acquired mass transportation systems, priority of reemployment, and paid training or retraining. Generally, DOL processes the employee protection certification required under Section 5333(b) in accordance with the procedural guidelines published at 29 CFR 215.3. However, for the Job Access and Reverse Commute Grants program, DOL has proposed to apply appropriate protections without referral for Job Access and Reverse Commute Grant applications serving populations under 200,000 and to utilize the guidelines for Job Access and Reverse Commute Grant applications serving populations of 200,000 or more. FTA will submit the grant application to DOL for certification.

Grant funds will NOT be released without DOL certification. Where there are questions regarding the DOL certification process and/or information needed by DOL to obtain a labor certification, successful applicants must contact the appropriate FTA regional office (See Appendix A). Additionally, guidance is provided on the World Wide Web at [http://www.fta.dot.gov/wtw/labor.htm].

Completed Application

All successful applicants must now proceed to complete their grant application by fully documenting all the Job Access and Reverse Commute Grants program requirements that were not fully documented when the original grant proposal was submitted. FTA regional offices will advise applicants by letter of any remaining outstanding items, as well as stipulations specific to the Job Access and Reverse Commute Grant projects that need to be addressed and/or fully documented prior to grant approval.

Successful applicants will be notified in writing by the FTA regional offices with further guidance.

Issued on: January 16, 2001.
Nuria I. Fernandez,
Acting Administrator.

Appendix A—FTA Regional Offices

Region I

Maine, New Hampshire, Vermont, Connecticut, Rhode Island, and Massachusetts. Richard Doyle, FTA Regional Administrator, Volpe National Transportation Systems Center, Kendall Square, 55 Broadway, Suite 920, Cambridge, MA 02142-1093, (617) 494-2055

Region II

New York, New Jersey, and Virgin Islands. Letitia Thompson, FTA Regional Administrator, One Bowling Green, Room 429, New York, NY 10004-1415, (212) 668-2170

Region III

Pennsylvania, Delaware, Maryland, Virginia, West Virginia, and District of Columbia. Susan Schruth, FTA Regional Administrator, 1760 Market Street, Suite 500, Philadelphia, PA 19103-4124, (215) 656-7100

Region IV

Kentucky, North Carolina, South Carolina, Georgia, Florida, Alabama, Mississippi, Tennessee, and Puerto Rico. Jerry Franklin, FTA Regional Administrator, 61 Forsyth Street, S.W., Suite 17T50, Atlanta, GA 30303, (404) 562-3500

Region V

Minnesota, Wisconsin, Michigan, Illinois, Indiana, and Ohio. Joel Ettinger, FTA Regional Administrator, 200 West Adams Street, Suite 2410, Chicago, IL 60606-5232, (312) 353-2789

Region VI

Arkansas, Louisiana, Oklahoma, Texas, and New Mexico. Robert Patrick, FTA Regional Administrator, 819 Taylor Street, Room 8A36, Ft. Worth, TX 76102, (817) 978-0550

Region VII

Missouri, Iowa, Kansas, and Nebraska. Mokhtee Ahmad, FTA Regional Administrator, 901 Locust Street, Suite 404, Kansas City, MO 64106, (816) 329-3920

Region VIII

Colorado, Utah, Wyoming, Montana, North Dakota, South Dakota. Lee Waddleton, FTA Regional Administrator, Columbine Place, 216 16th Street, Suite 650, Denver, CO 80202-5120, (303) 844-3242

Region IX

California, Hawaii, Guam, Arizona, Nevada, American Samoa, and the Northern Mariana Islands. Leslie Rogers, FTA Regional Administrator, 201 Mission Street, Suite 2210, San Francisco, CA 94105-1839, (415) 744-3133

Region X

Idaho, Oregon, Washington, and Alaska. Helen Knoll, FTA Regional Administrator, Jackson Federal Building, 915 Second Avenue, Suite 3142, Seattle, WA 98174-1002, (206) 220-7954

Appendix B—(FY) 2001 Projects Designated by Congress
State | FY 2001 funds allocated | Location/description
Alabama | $249,450 | Mobile, Alabama.
Alabama | 1,995,600 | Troy State University, Alabama—Rosa Parks Center.
Alabama | 1,496,700 | State of Alabama.
Alabama | 848,130 | Easter Seals West Alabama work transition programs.
Alaska | 59,868 | Mantanuska-Susitna borough, M.A.S.C.O.T, Alaska.
Alaska | 399,120 | Sitka, Alaska transit expansion program.
Alaska | 498,900 | Central Kenai Peninsula public transportation.
Arizona | 997,800 | Tucson, Arizona.
Arkansas | 3,991,200 | State of Arkansas.
California | 498,900 | Alameda and Contra-Costa counties, California.
California | 2,993,400 | Fresno, Tulare, Kings and Kern Counties, California.
California | 3,492,300 | Los Angeles, California.
California | 149,670 | Monterey, California.
California | 997,800 | Sacramento, California.
California | 274,395 | San Francisco, California.
California | 498,900 | Santa Clara County, California.
Colorado | 74,835 | Archuleta County, Colorado.
District of Columbia | 997,800 | District of Columbia.
Florida | 1,995,600 | Broward County, Florida.
Florida | 598,680 | Hillsborough County, Florida.
Georgia | 498,900 | Chatham, Georgia.
Illinois | 997,800 | Chicago, Illinois.
Illinois | 498,900 | DuPage County, Illinois.
Illinois | 149,670 | Southern Illinois RIDES.
Illinois | 997,800 | State of Illinois.
Indiana | 997,800 | Indianapolis, Indiana.
Iowa | 1,596,480 | Des Moines, Dubuque, Sioux City, Delaware and Jackson Counties, Iowa.
Kansas | 997,800 | Kansas City, Kansas.
Maine | 498,900 | State of Maine.
Maine | 898,020 | York County, Maine.
Maryland | 2,394,720 | State of Maryland.
Massachusetts | 399,120 | Athol/Orange Community Transportation, Massachusetts.
Massachusetts | 349,230 | Western Massachusetts.
Michigan | 249,450 | North Oakland County, Michigan.
Missouri | 748,350 | OATS job access programs, Missouri.
Missouri | 149,670 | Meramec Community Transit programs, Missouri.
Nevada | 997,800 | Washoe County, Nevada.
New Hampshire | 339,252 | State of New Hampshire.
New Mexico | 249,450 | Doña Ana County, New Mexico.
New Mexico | 259,428 | Las Cruces, New Mexico.
New Mexico | 1,995,600 | State of New Mexico.
New York | 249,450 | Capital District Authority, New York.
New York | 249,450 | Broome County Transit, New York.
New York | 498,900 | Buffalo, New York.
New York | 498,900 | Nassau County, New York.
New York | 299,340 | Rochester, New York.
New York | 444,021 | Suffolk County, New York.
New York | 199,560 | Sullivan County, New York.
New York | 299,340 | Tompkins County, New York.
New York | 199,560 | Ulster County, New York.
Ohio | 748,350 | Central Ohio.
Oklahoma | 4,490,100 | State of Oklahoma.
Oregon | 1,835,952 | Portland, Oregon.
Pennsylvania | 399,120 | Greater Erie Community Action Committee, Pennsylvania.
Pennsylvania | 2,993,400 | SEPTA, Philadelphia, Pennsylvania.
Pennsylvania | 1,995,600 | Pittsburgh Port Authority of Allegheny County, Pennsylvania.
Rhode Island | 99,780 | Rhode Island community food bank transportation.
Rhode Island | 997,800 | Rhode Island Public Transit Authority.
Tennessee | 1,995,600 | State of Tennessee.
Texas | 548,790 | Corpus Christi RTA, Texas.
Vermont | 1,496,700 | State of Vermont.
Virginia | 498,900 | Tysons Corner/Dulles Corridor, Virginia.
Virginia | 4,490,100 | Commonwealth of Virginia.
Washington | 1,995,600 | State of Washington.
West Virginia | 1,496,700 | State of West Virginia.
Wisconsin | 4,689,660 | State of Wisconsin.
| 1,995,600 | Ways to Work family loan program, Southeastern U.S.

[FR Doc. 01-2188 Filed 1-24-01; 8:45 am]

BILLING CODE 4910-57-P